DEPARTMENT OF COMMERCE

National Oceanic and Atmospheric Administration

RIN 0648-XV073

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a two-day meeting, Release Mortality Science Workshop.

DATES: The meeting will convene at 8:30 a.m. on Monday, October 7 and conclude at 12 p.m., EDT on Tuesday, October 8, 2019. For agenda details, see SUPPLEMENTARY INFORMATION.

ADDRESSES: The meeting will be held at the Tradewinds Island Resort, located at 5600 Gulf Boulevard, St. Petersburg Beach, FL; telephone: (727) 363-2215.

Council address: Gulf of Mexico Fishery Management Council, 4107 W. Spruce Street, Suite 200, Tampa, FL 33607; telephone: (813) 348-1630.

FOR FURTHER INFORMATION CONTACT: Emily Muehlstein, Public Information Officer, Gulf of Mexico Fishery Management Council; emily.muehlstein@gulfcouncil.org, telephone: (813) 348-1630. The Council's website, www.gulfcouncil.org also has details on the meeting location, proposed agenda, webinar listen-in access, and other materials.

SUPPLEMENTARY INFORMATION: The following items are on the agenda, though agenda items may be addressed out of order (changes will be noted on the Council's website when possible.)

Monday, October 7, 2019; 8:30 a.m.-5 p.m.

The meeting will begin with Welcome and Introductions of members; followed by a number of presentations on Magnitude of Discard Mortality of Reef Fish in the Gulf of Mexico; Eastern Gulf: A Synopsis of Research on Recreational Fishing Practices and Discard Mortality; Northern Gulf: A Synopsis of Research on Discard Mortality; Western Gulf: A Synopsis of Research on Recreational Fishing Practices and Discard Mortality; and, a presentation on West Coast Success story: Yelloweye Rockfish Barotrauma Mitigation and Incorporation into Management and Stock Assessment Process.

After lunch, we will hold a facilitated discussion on Barotrauma Mitigation by Fleet and Reef Fish Species; build a barotrauma risk matrix, discuss best practices and devices for each fleet, and the rationale and barriers for methods.

Tuesday, October 8, 2019: 8:30 a.m.-12 p.m.

We will receive a presentation on Overview of stock assessment inputs affected by release and release mortality rates; followed by a facilitated discussion to define necessary stock assessment inputs; suggest barotrauma mitigation research that could benefit stock assessments using existing monitoring frameworks and through novel research efforts; and, prioritize data gaps by species, fleets, and region.

—Meeting Adjourns

The meeting will be broadcast via webinar. You may register for the listen-in access by visiting www.gulfcouncil.org and clicking on the meeting on the calendar. The Agenda is subject to change, and the latest version along with other meeting materials will be posted on www.gulfcouncil.org as they become available.

Although other non-emergency issues not on the agenda may come before the group for discussion, in accordance with the Magnuson-Stevens Fishery Conservation and Management Act (Magnuson-Stevens Act), those issues may not be the subject of formal action during this meeting. Actions will be restricted to those issues specifically identified in this notice and any issues arising after publication of this notice that require emergency action under Section 305(c) of the Magnuson-Stevens Act, provided the public has been notified of the Council's intent to take action to address the emergency.

Special Accommodations

This meeting is physically accessible to people with disabilities. Requests for sign language interpretation or other auxiliary aids should be directed to Kathy Pereira at the Gulf Council Office (see ADDRESSES), at least 5 working days prior to the meeting.

Authority: 16 U.S.C. 1801 et seq.

Dated: September 11, 2019.
Tracey L. Thompson,
Acting Deputy Director, Office of Sustainable Fisheries, National Marine Fisheries Service.

[FR Doc. 2019-19964 Filed 9-13-19; 8:45 am]

BILLING CODE 3510-22-P